DEPARTMENT OF THE INTERIOR

Fish and Wildlife Service

Nevada Department of Wildlife, Lincoln County, Nevada, Enhancement of Survival Permit

AGENCY: Fish and Wildlife Service, Interior.

ACTION: Notice of availability and receipt of application; request for comments.

SUMMARY: In response to an application from the Nevada Department of Wildlife (Applicant), we, the Fish and Wildlife Service (Service), are considering issuance of an enhancement of survival permit pursuant to section 10(a)(1)(A) of the Endangered Species Act of 1973, as amended (ESA). The permit application includes a proposed programmatic Safe Harbor Agreement (SHA) between the applicant and the Service. The proposed SHA provides for voluntary habitat restoration, maintenance, enhancement, or creation activities to enhance the reintroduction and recovery of White River springfish (Crenichtheys baileyi baileyi), Hiko White River springfish (Crenichtheys baileyi grandis), Pahranagat roundtail chub (Gila robusta jordani) and southwestern willow flycatcher (Empidonax trailii extimus), within the Pahranagat Valley, Nevada. The proposed duration of both the SHA and permit is 50 years.

We have made a preliminary determination that the proposed SHA and permit application are eligible for categorical exclusion under the National Environmental Policy Act of 1969 (NEPA). The basis for our determination is contained in an environmental action statement, which also is available for public review. We are requesting comments on this application.

DATES: We must receive written comments by 5 p.m. on August 9, 2007.

ADDRESSES: Please address comments to Robert D. Williams, Field Supervisor, Nevada Fish and Wildlife Office, 1340 Financial Boulevard, Suite 234, Reno, NV 89502; facsimile number (775) 861-6301.

FOR FURTHER INFORMATION CONTACT: Heather Martinez, Fish and Wildlife Biologist for the Southern Nevada Fish and Wildlife Office, at 4701 N. Torrey Pines Dr., Las Vegas, NV, 89130; telephone (702) 515-5230.

SUPPLEMENTARY INFORMATION:

Document Availability

Individuals wishing copies of the permit application or the environmental action statement, or copies of the full text of the proposed SHA, including a map of the proposed permit area, references, and legal descriptions of the proposed permit area, should contact the office and personnel listed in the ADDRESSES section. Documents also will be available for public inspection, by appointment, during normal business hours at this office (see ADDRESSES).

We specifically request information, views, and opinions from the public on the proposed Federal action of issuing a permit, including the identification of any aspects of the human environment not already analyzed in our environmental action statement. Further, we specifically solicit information regarding the adequacy of the SHA as measured against our permit issuance criteria found in 50 CFR 17.22(c).

Before including your address, phone number, e-mail address, or other personal identifying information in your comment, be advised that your entire comment—including your personal identifying information—may be made publicly available at any time. While you can ask us in your comment to withhold from public review your personal identifying information, we cannot guarantee that will be able to do so.

Background

The primary objective of this proposed SHA is to encourage voluntary habitat restoration, maintenance or enhancement activities to benefit White River springfish, Hiko White River springfish, Pahranagat roundtail chub, and southwestern willow flycatcher by relieving a landowner who enters into the provisions of a cooperative agreement with the Applicant from any additional Section 9 liability under the Endangered Species Act (16 U.S.C. 1531 et seq.) beyond that which exists at the time the cooperative agreement is signed and certificate of inclusion issued (“regulatory baseline”). A SHA encourages landowners to conduct voluntary conservation activities and assures them that they will not be subjected to increased listed species restrictions should their beneficial stewardship efforts result in increased listed species populations. Application requirements and issuance criteria for enhancement of survival permits and SHAs are found in 50 CFR 17.22(c) and 17.32(c). As long as enrolled landowners allow the agreed-upon conservation measures to be completed on their property and agree to maintain their baseline responsibilities, they may make any other lawful use of the property during the term of the cooperative agreement, even if such use results in the take of individual White River springfish, Hiko White River springfish, Pahranagat roundtail chub, southwestern willow flycatcher or harm to these species' habitats, as long as it does not cause conditions to fall below baseline.

As proposed in the SHA, landowners within the Pahranagat Valley that have suitable habitat for any of these four species may be enrolled by the applicant under the SHA. Landowners, as cooperators, would receive a certificate of inclusion when they sign a cooperative agreement. The cooperative agreement would include: (1) A map of the property and its legal location; (2) delineation of the portion of the property to be enrolled and its stream mileage/feet; (3) the property's baseline and biological assessment, which would include a description of the habitat types that occur on the portion of the property to be enrolled, including an accurate description of riparian and aquatic habitats and a thorough stream analysis (with photos) of the enrolled stream miles/feet; (4) current land-use practices and existing development, and the characteristics of water supplies to aquatic habitats; (5) a description of the specific conservation measures to be completed; and (6) the responsibilities of the cooperator and the applicant.

The applicant, as the permittee, will be responsible for annual monitoring and reporting related to implementation of the SHA and cooperative agreements and fulfillment of their provisions. As specified in the SHA, the Applicant will issue yearly reports to the Service related to implementation of the program.

Each cooperative agreement would cover conservation activities to create, maintain, restore, or enhance habitat for the White River spring fish, Hiko White River springfish, Pahranagat roundtail chub, and/or the southwestern willow flycatcher and achieve species' recovery goals. These actions, where appropriate, could include (but are not limited to): (1) Restoration of wetland and riparian habitats and stream form and function; (2) establishment of wetland and riparian buffers; (3) repair or installation of improved irrigation systems that improve water quality and quantity for habitat; (4) development and implementation of monitoring plans as well as facilitation of the implementation of other objectives recommended by the recovery plan for these species. The overall goal of cooperative agreements entered into under the proposed SHA is to produce conservation measures that are mutually beneficial to the cooperators and the long-term existence of these four species.

Based upon the probable species' response time, we estimate it will take 3 years of implementing the planned conservation measures to fully reach a net conservation benefit for White River springfish and Hiko White River springfish, 5 years for Pahranagat roundtail chub and 10 years for southwestern willow flycatcher; some level of benefit would likely occur within a shorter time period. Most cooperative agreements under the proposed SHA are expected to have at least 10 years' duration.

After maintenance of the restored/created/enhanced habitat for these species on the property for the agreed-upon term, cooperators may then conduct otherwise lawful activities on their property that result in the partial or total elimination of the habitat improvements and the taking of these four species. However, the restrictions on returning a property to its original baseline condition are: (1) The cooperator must demonstrate that baseline conditions were maintained during the term of the cooperative agreement and the conservation measures necessary for achieving a net conservation benefit were carried out; (2) we and the applicant will be notified a minimum of 30 days prior to the activity and given the opportunity to capture, rescue, and/or relocate any of the four species; and (3) return to baseline conditions must be completed within the term of the certificate of inclusion issued to the applicant. Cooperative agreements could be extended if the applicant's permit is renewed and that renewal allows for such an extension.

We have made a preliminary determination that approval of the proposed SHA qualifies for a categorical exclusion under NEPA, as provided by the Department of Interior Manual (516 DM 2 Appendix 1 and 516 DM 6 Appendix 1) based on the following criteria: (1) Implementation of the SHA would result in minor or negligible effects on other environmental values or resources; (2) implementation of the SHA would result in minor or negligible effects on other environmental values or resources; and (3) impacts of the SHA, considered together with the impacts of other past, present, and reasonably foreseeable similarly situated projects, would not result, over time, in cumulative effects to environmental values or resources which would be considered significant. This is more fully explained in our environmental action statement.

Based upon this preliminary determination, we do not intend to prepare further NEPA documentation. The Service will consider public comments in making its final determination on whether to prepare such additional documentation.

Decision

We provide this notice pursuant to section 10(c) of the ESA and pursuant to implementing regulations for NEPA (40 CFR 1506.6). We will evaluate the permit application, the proposed SHA, and comments submitted thereon to determine whether the application meets the requirements of section 10(a) of the ESA and NEPA regulations. If the requirements are met, we will sign the proposed SHA and issue an enhancement of survival permit under section 10(a)(1)(A) of the ESA to the Applicant for take of White River springfish, Hiko White River springfish, Pahranagat roundtail chub and southwestern willow flycatcher incidental to otherwise lawful activities of the project. We will not make a final decision until after the end of the 30-day comment period and will fully consider all comments received during the comment period.

Dated: June 3, 2007.
Robert D. Williams,
Field Supervisor, Nevada Fish and Wildlife Office, Reno, Nevada.

[FR Doc. E7-13375 Filed 7-9-07; 8:45 am]

BILLING CODE 4310-55-P